DEPARTMENT OF ENERGY

[Docket Nos. FE C&E 00-33, 00-34, 00-35, 00-36, 00-37, 00-38, 00-39, 00-40, 00-41 and 00-42; Certification Notice—194]

Office of Fossil Energy; Notice of Filings of Coal Capability of LSP-Pike Energy, Covert Generating Company, Sithe Mystic Development Company, Sithe Fore River Development Company, Cogentrix Lawrence County Power, Caledonia Generating, Santa Rosa Energy, Calpine Construction Finance Co., GenPower Keo, and Reliant Energy Hunterstown

AGENCY: Office of Fossil Energy, Department of Energy.

ACTION: Notice of filing.

SUMMARY: LSP-Pike Energy, LLC, Covert Generating Company, LLC, Sithe Mystic Development Company, LLC, Sithe Fore River Development Company, LLC, Cogentrix Lawrence County Power, LLC, Caledonia Generating, LLC, Santa Rosa Energy LLC, Calpine Construction Finance Company, GenPower Keo, LLC and Reliant Energy Hunterstown, LLC, have submitted coal capability self-certifications pursuant to section 201 of the Powerplant and Industrial Fuel Use Act of 1978, as amended.

ADDRESSES: Copies of self-certification filings are available for public inspection, upon request, in the Office of Coal & Power Im/Ex (FE-27), Fossil Energy, Room 4G-025, FE-27, Forrestal Building, 1000 Independence Avenue, SW., Washignton, DC 20585.

FOR FURTHER INFORMATION CONTACT: Ellen Russell (Program Office) 202-586-9624.

SUPPLEMENTARY INFORMATION: Title II of the Powerplant and Industrial Fuel Use Act of 1978 (FUA), as amended (42 U.S.C. 8301 et seq.), provides that no new baseload electric powerplant may be constructed or operated without the capability to use coal or another fuel as a primary energy source. In order to meet the requirement of coal capability, the owner or operator of such facilities proposing to use natural gas or petroleum as its primary energy source shall certify, pursuant to FUA section 201(d), to the Secretary of Energy prior to construction, or prior to operation as a baseload powerplant, that such powerplant has the capability to use coal or another alternate fuel. Such certification establishes compliance with section 201(a) as of the date filed with the Department of Energy. The Secretary is required to publish a notice in the Federal Register that a certification has been filed. The following owners/operators of the proposed new baseload powerplants have filed self-certifications in accordance with section 201(d).

Owner: LSP-Pike Energy, LLC (C&E 00-33).

Operator: LSP-Pike Energy, LLC.

Location: Summit, MS.

Plant Configuration: Combined cycle.

Capacity: 1,100 megawatts (MW).

Fuel: Natural gas.

Purchasing Entities: Wholesale power markets.

In-Service Date: Spring of 2003.

Owner: Covert Generating Company, LLC (C&E 00-34).

Operator: Covert Generating Company, LLC.

Location: Van Buren County, MI.

Plant Configuration: Combined cycle.

Capacity: 1,200 MW.

Fuel: Natural gas.

Purchasing Entities: Wholesale power markets.

In-Service Date: First or second quarter of 2003.

Owner: Sithe Mystic Development, LLC (C&E 00-35).

Operator: Sithe Boston Power Services, LLC.

Location: Everett, Massachusetts.

Plant Configuration: Combined cycle.

Capacity: 1,550 MW.

Fuel: Natural gas.

Purchasing Entities: Wholesale power markets.

In-Service Date: April 2002.

Owner: Sithe Fore River Development, LLC (C&E 00-36).

Operator: Sithe Boston Power Services, LLC.

Location: Weymouth, Massachusetts.

Plant Configuration: Combined cycle.

Capacity: 775 MW.

Fuel: Natural gas.

Purchasing Entities: Wholesale power markets.

In-Service Date: June 2002.

Owner: Cogentrix Lawrence County Power, LLC (C&E 00-37).

Operator: Cogentrix Energy, Inc.

Location: Lawrence County, IN.

Plant Configuration: Combined cycle.

Capacity: 820 MW.

Fuel: Natural gas.

Purchasing Entities: Power Marketer.

In-Service Date: June 1, 2003.

Owner: Caledonia Generating, LLC (C&E 00-38).

Operator: Cogentrix Energy, Inc.

Location: Caledonia, MS.

Plant Configuration: Combined cycle.

Capacity: 800 MW.

Fuel: Natural gas.

Purchasing Entities: Power Markets.

In-Service Date: June 1, 2003.

Owner: Santa Rosa Energy LLC (C&E 00-39).

Operator: Calpine Eastern Corporation.

Location: Pace, FL.

Plant Configuration: Combined cycle.

Capacity: 242 MW.

Fuel: Natural gas.

Purchasing Entities: Wholesale power markets.

In-Service Date: June 2002.

Owner: Calpine Construction Finance Company, L.P. (C&E 00-40).

Operator: Calpine Eastern Corporation.

Location: Reading, PA.

Plant Configuration: Combined cycle.

Capacity: 562.9 MW.

Fuel: Natural gas.

Purchasing Entities: Wholesale power markets.

In-Service Date: May 2002.

Owner: GenPower Keo, LLC (C&E 00-41).

Operator: General Electric International, Inc.

Location: Keo, AR.

Plant Configuration: Combined cycle.

Capacity: 640 MW.

Fuel: Natural gas.

Purchasing Entities: Wholesale power markets.

In-Service Date: May 2003.

Owner: Reliant Energy Hunterstown, LLC (C&E 00-42).

Operator: Reliant Energy Hunterstown, LLC.

Location: Adams County, PA.

Plant Configuration: Combined cycle.

Capacity: 800 MW.

Fuel: Natural gas.

Purchasing Entities: Regional power pool.

In-Service Date: June 1, 2003.

Issued in Washington, DC, on December 18, 2000.
Anthony J. Como,
Deputy Director, Electric Power Regulation, Office of Coal & Power Im/Ex, Office of Coal & Power Systems, Office of Fossil Energy.

[FR Doc. 00-32679 Filed 12-21-00; 8:45 am]

BILLING CODE 6450-01-P